DEPARTMENT OF THE INTERIOR

Bureau of Land Management

[MT-926-02-1420-BJ]

Montana: Filing of Plat of Survey

AGENCY: Bureau of Land Management, Montana State Office, Interior.

ACTION: Notice.

SUMMARY: The plat of survey of the following described land is scheduled to be officially filed in the Montana State Office, Billings, Montana, thirty (30) days from the date of this publication.

Principal Meridian, Montana

T. 6 N., R. 52 E.

The plat, representing the dependent resurvey of a portion of the subdivisional lines and the adjusted original meanders of the right bank of the Powder River, downstream, through section 32, the survey of the new meanders of the present right bank of the Powder River, downstream, through section 32 and certain division of accretion lines in section 32, Township 6 North, Range 52 East, Principal Meridian, Montana, was accepted September 17, 2001.

This survey was executed at the request of the Bureau of Land Management, Miles City Field Office, and was necessary to identify accretion in section 32 of this township.

A copy of the preceding described plat will be immediately placed in the open files and will be available to the public as a matter of information.

If a protest against this survey, as shown on this plat, is received prior to the date of the official filing, the filing will be stayed pending consideration of the protest.

This particular plat will not be officially filed until the day after all protests have been accepted or dismissed and become final or appeals from the dismissal affirmed.

FOR FURTHER INFORMATION CONTACT: Bureau of Land Management, 5001 Southgate Drive, P.O. Box 36800, Billings, Montana 59107-6800.

Dated: September 26, 2001.
Steven G. Schey,
Chief Cadastral Surveyor, Division of Resources.

[FR Doc. 01-28111 Filed 11-8-01; 8:45 am]

BILLING CODE 4310-DN-P